DEPARTMENT OF COMMERCE

International Trade Administration

North American Free Trade Agreement, Article 1904 NAFTA Panel Reviews; Notice of Panel Decision

AGENCY: NAFTA Secretariat, United States Section, International Trade Administration, Department of Commerce.

ACTION: Notice of panel decision.

SUMMARY: On December 1, 2004, the binational panel issued its decision in the review of the final results of the affirmative countervailing duty re-determination on remand made by the International Trade Administration (ITA) respecting Certain Softwood Lumber Products from Canada (Secretariat File No. USA-CDA-2002-1904-03) affirmed in part and remanded in part the re-determination of the Department of Commerce. The Department will return the determination on remand no later than January 24, 2005. A copy of the complete panel decision is available from the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from the other country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686).

Panel Decision: On December 1, 2004, the Binational Panel remanded the Department of Commerce's final countervailing duty determination on remand. The following issues were remanded to the Department:

(1) The Department is directed to reinstate the C$3.46 profit figure in computing the log-seller profit in Alberta.

(2) The Department is directed to include in the Quebec benchmarks the volume of logs for which the Syndicate data does not indicate prices, or to explain why it should not do so, or why it cannot do so.

(3) The Department is directed to adjust the Quebec benchmarks by deducting log-seller profit from both the import and Syndicate prices.

(4) The Department is directed to consider the conversion factor to be used to convert Syndicate prices in Quebec to cubic meters where the data is reported in other forms.

(5) The Department is directed to include Balsam Fir and Larch in the Ontario SPF benchmark.

(6) The Department is directed to correct the clerical error in the import statistics for Ontario which grossly inflated the benchmark.

(7) The Department is directed to examine the issue of log-seller profit in Ontario. If the Department determines that it is appropriate to use a surrogate profit figure from some other province, it is directed to explain its choice.

(8) The Department is directed to redetermine the net benefit for Ontario.

(9) The Department is directed to recalculate the British Columbia benchmark taking into account actual market conditions in that province. In so doing, the Department must perform separate benefit calculations for the Coast and for the Interior using data available for each region.

(10) The Department is directed to apply recalculated profit figures for Alberta and Quebec in calculating British Columbia stumpage benefits.

(11) The Department is directed to eliminate the import data in the surrogate benchmarks for Saskatchewan and Manitoba.

(12) If the Department's benchmark calculations result in a higher benefit for Quebec or Ontario, the Department is directed to exclude additional sales that might erroneously be attributed to Bois Omega.

The Investigating Authority is directed to complete its remand determination by January 24, 2005.

Dated: December 2, 2004.
Caratina L. Alston,
United States Secretary, NAFTA Secretariat.

[FR Doc. E4-3512 Filed 12-6-04; 8:45 am]

BILLING CODE 3510-GT-P